DEPARTMENT OF HOMELAND SECURITY

Federal Emergency Management Agency

[Docket ID FEMA-2011-0007]

Agency Information Collection Activities, Submission for OMB Review; Comment Request; Severe Repetitive Loss (SRL) Appeals

AGENCY: Federal Emergency Management Agency, DHS.

ACTION: Notice; 30-day notice and request for comments; extension, without change, of a currently approved information collection; FEMA Form—None.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 8, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Severe Repetitive Loss (SRL) Appeals.

Type of information collection: Extension, without change, of a currently approved information collection.

OMB Number: 1660-0104.

Form Titles and Numbers: None.

Abstract: The SRL program provides property owners with the ability to appeal an increase in their flood insurance premium rate if they refuse an offer of mitigation under this program. The property owner must submit information to FEMA to support their appeal.

Affected Public: Individuals or Households.

Estimated Number of Respondents: 10.

Frequency of Response: On occasion.

Estimated Average Hour Burden per Respondent: Appeals Written Request and Supporting Documentation, 10 hours.

Estimated Total Annual Burden Hours: 100 hours.

Estimated Cost: The estimated annual operations and maintenance costs for SRL appeals is $30,488. There is no annual start-up or capital costs.

Dated: June 1, 2011.
Lesia M. Banks,
Director, Records Management Division, Mission Support Bureau, Federal Emergency Management Agency, Department of Homeland Security.

[FR Doc. 2011-14071 Filed 6-7-11; 8:45 am]

BILLING CODE 9110-13-P